DEPARTMENT OF TRANSPORTATION

Federal Aviation Administration

Notice of Intent To Rule on Disposal of Aeronautical Property at Everett-Stewart Regional Airport, Union City, TN (UCY)

AGENCY: Federal Aviation Administration (FAA), DOT.

ACTION: Notice.

SUMMARY: The Federal Aviation Administration is requesting public comment on a request by Obion County, to release three parcels of land (8.48 acres) at Everett-Stewart Regional Airport from federal obligations.

DATES: Comments must be received on or before October 28, 2016.

ADDRESSES: Comments on this notice may be mailed or delivered in triplicate to the FAA at the following address: Memphis Airports District Office, Attn: Tommy L. Dupree, Assistant Manager, 2600 Thousand Oaks Boulevard, Suite 2250, Memphis, TN 38118.

In addition, one copy of any comments submitted to the FAA must be mailed or delivered to Mr. Allen C. Gooch, Board Chairman, Everett-Stewart Regional Airport at the following address: 1489 Airport Road, Union City, TN 38261.

FOR FURTHER INFORMATION CONTACT: Tommy L. Dupree, Assistant Manager, Federal Aviation Administration, Memphis Airports District Office, 2600 Thousand Oaks Boulevard, Suite 2250, Memphis, TN 38118-2482. The application may be reviewed in person at this same location, by appointment.

SUPPLEMENTARY INFORMATION: The FAA proposes to rule and invites public comment on the request to release property for disposal at Everett-Stewart Regional Airport, 1489 Airport Road, Union City, TN 38261, under the provisions of 49 U.S.C. 47107(h)(2). The FAA determined that the request to release property at Everett-Stewart Regional Airport (UCY) submitted by the Sponsor meets the procedural requirements of the Federal Aviation Administration and the release of these properties does not and will not impact future aviation needs at the airport. The FAA may approve the request, in whole or in part, no sooner than thirty days after the publication of this notice.

This release will be retroactive for property conveyances from 1963, 2010, and 2014. The request consists of the following:

A 1.7 acre parcel was conveyed to the Poplar Meadows Country Club in 1963 to improve the golf course. This property is contiguous to the airport, located south of the terminal area development and 750 feet west of Airport Road. This property is a part of the 749.94 acre parcel conveyed from the United States of America with obligations to Obion County in 1947.

A 5.84 acre parcel was conveyed to Obion County as right of way for Airport Road construction improvements in October 2010. This property is contiguous to the airport located approximately 400 feet south of Tennessee Highway 431 along Airport Road. This property is part of a 109.67 acre parcel conveyed from the United States of America with limited obligations to Obion County in 1947.

A 0.94 acre parcel was conveyed to Stanley Chapel Church for improvements in February 2014. This property is non-contiguous to the airport on Stanley Chapel Church Road located 800 feet west of Airport Road. This property is a part of a 109.67 acre parcel conveyed from the United States of America with limited obligations to Obion County in 1947.

This request will release these three properties from federal obligations. This action is taken under the provisions of 49 U.S.C. 47107(h)(2).

Any person may inspect the request in person at the FAA office listed above under FOR FURTHER INFORMATION CONTACT.

In addition, any person may, upon request, inspect the request, notice and other documents germane to the request in person at the Everett-Stewart Regional Airport.

Issued in Memphis, Tennessee, on September 19, 2016.
Tommy L. Dupree,
Assistant Manager, Memphis Airports District Office, Southern Region.

[FR Doc. 2016-23425 Filed 9-27-16; 8:45 am]

BILLING CODE 4910-13-P